DEPARTMENT OF JUSTICE

Office of Justice Programs

Agency Information Collection Activities: Existing Collection; Comments Requested

ACTION: 30-Day Notice of Information Collection Under Review: Extension of a Currently Approved Collection; National Corrections Reporting Program.

This notice is published to correct an error in the notice that was published on May 19, 2006. It was incorrectly stated Bureau of Alcohol, Tobacco, Firearms and Explosives, it should have stated Office of Justice Programs.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register in Volume 71, Number 12, page 3119-3120 on January 19, 2006, allowing for a 60 day comment period.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: National Corrections Reporting Program. The collection includes the forms: Prisoner Admission Report, Prisoner Release Report, Parole Release Report, Prisoner in Custody at Year-end.

(3) Agency form number, if any, and the applicable component of the Department of Justice sponsoring the collection: Form number(s): NCRP-1A, NCRP-1B, NCRP-1C, and NCRP-1D. Corrections Statistics Unit, Bureau of Justice Statistics, Office of Justice Programs, United States Department of Justice.

(4) Affected public who will be asked or required to respond, as well as a brief abstract: The National Corrections Reporting Program (NCRP) is the only national data collection furnishing annual individual-level information for State prisoners admitted or released during the year, those in custody at year-end, and persons discharged from parole supervision. The NCRP collects data on sentencing, time served in prison and on parole, offense, admission/release type, and demographic information. BJS, the Congress, researchers, and criminal justice practitioners use these data to describe annual movements of adult offenders through State correctional systems. Providers of the data are personnel in the State Departments of Corrections and Parole.

(5) An estimate of the total number of respondents and the amount of time estimated for an average respondent to respond: BJS anticipates 42 respondents for report year 2006 with a total annual burden of 2,298 hours. Magnetic media or other electronic formats are expected from 40 respondents and 2 respondents are expected to report manually. The respondents who have an automated data system will require an estimated 24 hours of time to supply the information for their annual caseload and an additional 2 hours documenting or explaining the data. The estimate of respondent burden for these States includes time required for modifying computer programs, preparing input data, and documenting the tape format and record layout.

The estimated average amount of time required to manually complete the NCRP-1B, and NCRP-1C questionnaires are 10 minutes, 5 minutes, and 3 minutes per inmate, respectively. The respondent burden is directly related to the number of cases reported. For 2000, the two manually reporting States submitted about 2,600 completed questionnaires for the NCRP-1A; about 2,400 for the NCRP-1B; and about 400 for the NCRP-1C. The estimated total burden for these respondents who submitted data manually was 654 hours. We expect no additional manual reporters in the future; and we expect an insignificant amount of increase in the number of prison admissions, prison releases and parole exits in the three States that currently report manually.

(6) An estimate of the total public burden (in hours) associated with the collection: There are an estimated 2,298 total burden hours associated with this collection.

If additional information is required contact: Lynn Bryant, Deputy Clearance Officer, United States Department of Justice, Justice Management Division, Policy and Planning Staff, Patrick Henry Building, Suite 1600, 601 D Street, NW., Washington, DC 20530 (phone: 202-514-4304).

Dated: May 22, 2006.
Lynn Bryant,
Department Deputy Clearance Officer, PRA, Department of Justice.

[FR Doc. 06-4867 Filed 5-24-06; 8:45am]

BILLING CODE 4410-18-M